ENVIRONMENTAL PROTECTION AGENCY

[FRL-9965-55-OECA]

Applicability Determination Index (ADI) Data System Recent Posting: Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This action announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) data system is available on the Internet through the Resources and Guidance Documents for Compliance Assistance page of the Clean Air Act Compliance Monitoring Web site under “Air” at: https://www2.epa.gov/compliance/resources-and-guidance-documents-compliance-assistance. The letters and memoranda on the ADI may be located by date, office of issuance, subpart, citation, control number, or by string word searches. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. The EPA's written responses to these inquiries are commonly referred to as applicability determinations. See 40 CFR 60.5 and 61.06. Although the NESHAP part 63 regulations [which include Maximum Achievable Control Technology (MACT) standards and/or Generally Available Control Technology (GACT) standards] and Section 111(d) of the Clean Air Act (CAA) contain no specific regulatory provision providing that sources may request applicability determinations, the EPA also responds to written inquiries regarding applicability for the part 63 and Section 111(d) programs. The NSPS and NESHAP also allow sources to seek permission to use monitoring or recordkeeping that is different from the promulgated requirements. See 40 CFR 60.13(i), 61.14(g), 63.8(b)(1), 63.8(f), and 63.10(f).

The EPA's written responses to these inquiries are commonly referred to as alternative monitoring decisions. Furthermore, the EPA responds to written inquiries about the broad range of NSPS and NESHAP regulatory requirements as they pertain to a whole source category.

These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system on the Internet with over three thousand EPA letters and memoranda pertaining to the applicability, monitoring, recordkeeping, and reporting requirements of the NSPS, NESHAP, and stratospheric ozone regulations. Users can search for letters and memoranda by date, office of issuance, subpart, citation, control number, or by string word searches.

Today's action comprises a summary of 31 such documents added to the ADI on July 21, 2017. This action lists the subject and header of each letter and memorandum, as well as a brief abstract of the letter or memorandum. Complete copies of these documents may be obtained from the ADI on the Internet through the through the Resources and Guidance Documents for Compliance Assistance page of the Clean Air Act Compliance Monitoring Web site under “Air” at: https://www2.epa.gov/compliance/resources-and-guidance-documents-compliance-assistance.

Summary of Headers and Abstracts

The following table identifies the database control number for each document posted on the ADI data system on July 21, 2017; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This action does not change the status of any document with respect to whether it is “of nationwide scope or effect” for purposes of CAA section 307(b)(1). For example, this document does not convert an applicability determination for a particular source into a nationwide rule. Neither does it purport to make a previously non-binding document binding.

ADI Determinations Uploaded on July 21, 2017
Control No. | Categories | Subparts | Title
1600009 | NSPS | Ja | Regulatory Interpretation on an Alternative Calibration Procedure for Hydrogen Sulfide Monitor at a Refinery.
1600010 | NSPS | Ec | Alternate Monitoring Operating Parameter Limits for Two Waste Incinerators.
1600011 | NSPS | EEEE | Alternative Operating Parameter Limits for Commercial Incinerator.
1600012 | NSPS | J, Ja | Alternative Monitoring Plan for Hydrogen Sulfide in Portable Temporary Thermal Oxidizer Units at Refineries.
1600013 | NSPS | J, Ja | Alternative Monitoring Plan for Hydrogen Sulfide in Portable Temporary Thermal Oxidizer Units at Refineries.
1600018 | NSPS | NNN, RRR | Regulatory Interpretation for a Biodiesel Manufacturing Facility.
1600027 | NSPS | A, Ja | Alternative Monitoring Plan for Span Gas Concentration and High Range Validation Standards for H2S CEMS at a Refinery.
1600028 | NSPS | J | Alternative Monitoring Plan for Revised Process Parameter Limits at a Refinery.
1600029 | NSPS | A, Ec | Alternative Monitoring Operating Parameter Limits for Air Pollution Control System at a Medical Waste Incinerator.
1600030 | NSPS | J | Withdrawal of Alternative Monitoring Plan for Sulfur Loading Vent Stream at a Refinery.
1600031 | NSPS | J | Alternative Monitoring Plan Revision for Re-Routed Vent Gas Stream at a Refinery.
1600032 | NSPS | Ja | Alternative Monitoring Plan for Flares at a Refinery.
1600033 | NSPS | Ja | Alternative Monitoring Plan for a Flare at a Refinery.
1600034 | NSPS | GG | Alternative Monitoring Plan for NOX Emissions during Startup from Stationary Gas Turbines.
1600035 | NSPS | JJJJ | Performance Test Waiver for Stationary Spark Ignition Internal Combustion Engines.
1600036 | NSPS | UUU | Alternative Monitoring Plan for Bag Leak Detection System In Lieu of COMS at a Sand Reclamation Unit.
1600037 | NSPS | UUU | Applicability Determination for Industrial Sand Dryer.
1600038 | NSPS | Ja | Alternative Calibration Methods for Total Reduced Sulfur Analyzers at a Refinery.
1600039 | NSPS | UUU | Alternative Monitoring Plan In Lieu of COMS at a Sand Reclamation Unit.
1600040 | NSPS | UUU | Request for Exemption to Opacity Monitoring Requirements for Thermal Sand Reclamation Units.
1600041 | NSPS | JJJJ | Alternative Test Method for Spark Ignition Engines.
A160001 | Asbestos, NESHAP | M | Waiver Request from Asbestos Testing for Bare Concrete Deck Bridges.
A160002 | Asbestos, NESHAP | M | Applicability Determination for Airport Taxiways.
M160005 | MACT | XXXXXX | Applicability Determination for a Steel Foundry.
M160007 | MACT, NESHAP | JJJJ, SSSSS | Applicability Determination for Mica Sheets Manufacturing.
M160009 | MACT, NESHAP | VVVVVV | Applicability Determination for Pharmaceutical Manufacturing Facility.
M160017 | MACT | JJJJ | Applicability Determination for Web Coating Manufacturing Facility.
M160019 | MACT, NSPS | J, UUU | Alternative Monitoring Plan for Wet Gas Scrubber at a Refinery.
M160020 | MACT, GACT, NESHAP, NSPS | AAa, YYYYY, ZZZZZ | Applicability Determination for a Steelmaking Facility.
M160021 | MACT | JJJ | Alternative Monitoring Method In Lieu of Continuous Flow Monitor for a Thermal Oxidizer.
Z160005 | MACT, NESHAP | PPPPP, ZZZZ | Applicability Determination for Engine Testing and Emissions Laboratory.

Abstracts

Abstract for [1600009]

Q: Does the EPA approve the use of the same calibration gas to perform quality assurance checks on both the low and the high ranges for a dual range hydrogen sulfide (H2S) continuous emission monitoring system subject to 40 CFR part 60 subpart Ja at the Ergon Refinery in Vicksburg, Mississippi (Ergon)?

A: Yes. Based on the information provided by the Mississippi Department of Environmental Quality (MDEQ), the EPA believes that the Ergon's proposed monitoring alternative is acceptable to satisfy the QA checks on the high concentration range for the Sola II analyzer. EPA's guidance to MDEQ is based upon the expectation that the monitor's higher range will rarely be used to demonstrate compliance because the H2S concentration at the inlet of the Refinery Flare will need to be below the monitor span value to meet the NSPS Ja limits, the highly linear response of the monitor should yield accurate results for the whole range of operation, and the safety hazards to plant employees associated with keeping high concentration H2S calibration gas cylinders onsite being valid concerns due to H2S high toxicity.

Abstract for [1600010]

Q: Does the EPA approve site-specific alternative monitoring operating parameter limits (OPLs) under NSPS subpart Ec for the operation of two hospital/medical/infectious waste incinerators (HMIWI) at the Stericycle Springhill facility located in Sarepta, Louisiana (Stericycle)?

A: Yes. The EPA conditionally approves Stericycle's alternative OPLs, which are consistent with the permit conditions, the equipment configuration of the incinerators, and the operation of the associated air pollution control devices. EPA approval is contingent on Stericycle's successful completion of performance testing on both HWIMI to demonstrate compliance with NSPS subpart Ec emission limits. Stericycle shall conduct a performance test on each HMIWI in accordance with 40 CFR 60.8 and consistent with the proposed performance test plan included in the EPA response letter. If performance testing shows that the facility is not in compliance with NSPS Ee emission limits, retesting will be required, and the OPLs established for this petition approval may require modification, and in the event that new or modified OPLs must be established, a revised OPL petition must be submitted prior to retesting, along with a revised test plan for review and approval.

Abstract for [1600011]

Q: Does EPA approve the revision of alternative Operating Parameter Limits (OPLs) for additional control equipment used in lieu of a wet scrubber at a contraband incinerator operated by SW Border Incineration LLC, in McAllen, Texas, which meets the criteria of an Other Solid Waste Incinerator (OSWI) unit under NSPS subpart EEEE?

A: Yes. The EPA approves the revision of alternative OPLs contingent on the successful completion of performance testing to demonstrate compliance with NSPS subpart EEEE emission limits. The previously approved and additional OPLs are consistent with the special conditions of Texas Air Permit, which the Texas Commission on Environmental Quality approved the test plan, along with the RATA protocols. If performance testing shows that the facility is not in compliance with NSPS EEEE emission limits, retesting will be required, and the OPLs established for this petition approval may require modification. If additional new or modified OPLs must be established to achieve and maintain compliance with NSPS EEEE, a revised OPL petition must be submitted prior to retesting, along with a revised test plan for review and approval.

Abstract for [1600012]

Q: Does the EPA approve an Alternative Monitoring Plan (AMP) in lieu of using a continuous emission monitoring system (CMS) for Event Corporation to monitor Hydrogen Sulfide (H2S) during tank degassing and similar operations controlled by a portable temporary thermal oxidizer subject to NSPS subpart J and NSPS subpart Ja at refineries located in the EPA Region 3?

A: Yes. The EPA conditionally approves the AMP since installing and operating an H2S CMS would be technically impractical due to the short term nature of tank degassing and similar operations performed by Event at refineries located in EPA Region 3. EPA included the detailed AMP sampling steps and compliance demonstration procedures and conditions in the EPA final determination letter.

Abstract for [1600013]

Q: Does the EPA approve an Alternative Monitoring Plan (AMP) in lieu of using continuous emission monitoring system (CMS) for TriStar Global Energy Solution (Tristar) to monitor hydrogen sulfide (H2S) during tank degassing and similar operations controlled by portable temporary thermal oxidizer units subject to NSPS subpart J and NSPS subpart Ja, at refineries located in EPA Region 3?

A: Yes. The EPA conditionally approves the AMP since installing and operating an H2S continuous emission monitoring system would be technically impractical due to the short term nature of tank degassing and similar operations performed by Tristar at refineries in EPA Region 3. The EPA included the AMP detailed sampling steps, the compliance demonstration procedures and conditions in the final determination letter.

Abstract for [1600018]

Q: Does the EPA determine that the proposed addition of a biodiesel manufacturing facility at a plant owned by Patriot Renewable Fuels (Patriot) and located in Annawan, Illinois is subject to 40 CFR part 60 subpart RRR (VOC Emissions from Synthetic Organic Chemical Manufacturing Industry (SOCMI) Reactor Processes)?

A: Yes. Based on the information provided by the Illinois Environmental Protection Agency (Illinois EPA), the EPA believes that the proposed addition to the biodiesel plant would meet the applicability criteria of subpart RRR. Glycerol, is a chemical listed in 40 CFR 60.707. The EPA considers either of the following downstream uses as indicative of the production of a listed chemical as a “product”: (1) Production for sale of a listed chemical; or (2) use in another process where that listed chemical is needed. Glycerol is produced from com oil via a hydrolysis reaction during the manufacture of biodiesel. When sent to the fermenters, glycerol is used to increase the ethanol yield (i.e., it is needed in the process) and is, therefore, an intermediate (i.e., a compound that is produced for the use in the production of other compounds or chemicals) under 40 CFR 60.700. Because the glycerol sent to the fermenters is an intermediate, the glycerol is a product. Therefore, our guidance to Illinois EPA is that the Patriot facility would be considered an affected facility subject to Subpart RRR after the addition of the proposed biodiesel plant.

Abstract for [1600027]

Q: Does the EPA approve an alternative monitoring plan (AMP) to use alternative concentrations of span gases used to check daily calibration drift, and as high range validation standards used during cylinder gas audits (CGAs) and relative accuracy test audits (RATAs), under NSPS subpart A for the No. 2 flare Continuous Emission Monitoring System (CEMS) at the Delek Refining (Delek) facility located in Tyler, Texas and covered under NSPS subpart Ja?

A: Yes. Based on the process data and detector information submitted, the EPA conditionally approves Delek's AMP to reduce the concentrations of the calibration gas and validation standards to certain specified range values on the No. 2 Flare CEMS. Delek must conduct linearity analysis on the pulsed ultraviolet fluorescence (PUVF) detector once every three years to determine the detector's linearity across the entire range of expected concentrations of gas vent streams. The analysis must demonstrate that linearity is maintained for the specified vent gas stream hydrogen sulfide (H2S) concentration range. A report of each completed linearity analysis must be submitted to the EPA Region 6 and to the State, and records must be maintained on-site.

Abstract for [1600028]

Q: Does the EPA approve revised process parameter limits for a previously approved Alternative Monitoring Plan (AMP) for the Valero Refining-Texas, LP facility (Valero) located in Corpus Christi, Texas and subject to NSPS subpart J?

A: Yes. The EPA conditionally approves revised process parameter limits that should not exceed the new upper value for total sulfur and the higher proposed temperature. Valero must continue to follow the steps outlined in the previously approved AMP for monitoring the vent stream. If refinery operations change such that the sulfur content of the vent stream changes from representations made for the AMP, then Valero must document the changes and follow the appropriate steps outlined in 40 CFR 60.105(b)(3)(i)-(iii).

Abstract for [1600029]

Q: Does the EPA conditionally approve revised alternative monitoring Operating Parameter Limits (OPLs) for a pollution control system on a new medical waste incinerator subject to NSPS subpart Ec, which consists of a wet gas scrubber (WGS) followed by a carbon adsorber and cartridge filter, located at the University of Texas Medical Branch (UTMBG) in Galveston, Texas?

A: Yes. Based on process-specific information and data provided by UTMBG, the EPA conditionally approves the revised operating parameters for the WGS, carbon adsorber and cartridge filter. UTMBG must conduct a second representative performance test in order to establish revised numerical limits for the operating parameters conditionally approved. The follow up performance testing must be conducted in accordance with 40 CFR 60.8 and State requirements, with no deviations from the EPA-approved test methods or quality assurance protocols. Other OPLs specified by Table 3 of NSPS subpart Ec and the facility's minor source air permit also must be included in the performance test if the changes affect those pollutants or operating limits. If performance testing shows that the facility is not in compliance with NSPS Ec emission limits, retesting will be required, and the OPLs established for this petition approval may require modification. If additional new or modified OPLs must be established to achieve and maintain compliance with NSPS Ee, a revised OPL petition must be submitted prior to retesting, along with a revised test plan for review and approval.

Abstract for [1600030]

Q: Does the EPA approve the withdrawal of a previously approved Alternative Monitoring Plan (AMP) for a sulfur loading vent stream at the Valero Mckee Refinery located in Sunray, Texas and covered under NSPS subpart J?

A: Yes. The EPA approves the AMP withdrawal of a previously approved AMP because emissions from the tail gas incinerators are monitored for compliance with the sulfur dioxide (SO2) limit of 40 CFR 60. 104(a)(2)(i) via a continuous emissions monitoring system (CEMS), in accordance with 60.105(a)(3) of NSPS J, as modified on June, 24, 2008, and is consistent with the requirements of Paragraph 226 of the consent decree.

Abstract for [1600031]

Q: Does the EPA approve revisions to an Alternative Monitoring Plan (AMP) that was previously conditionally approved for re-routing a refinery fuel gas vent stream to an alternate combustion device at the Valero Refining-Meraux LLC (Valero Meraux) facility located in Meraux, Louisiana subject to NSPS subpart J?

A: Yes. The EPA approves the revisions to a previously conditionally approved AMP. Valero Meraux proposed re-routing the affected refinery fuel gas vent gas stream to a reformer recharge heater instead of combusting the stream at a stripper reboiler heater. Valero Meraux is required to continue monitoring and controlling the relevant process parameters as summarized in the EPA's previous conditional AMP approval. If refinery operations change such that the sulfur content of the vent stream changes from representations made for the AMP, then Valero must document the changes and follow the appropriate steps outlined in 40 CFR 60. 105(b)(3)(i)-(iii).

Abstract for [1600032]

Q: Does the EPA approve the Alternative Monitoring Plan (AMP) to use the data obtained from the total sulfur (TS) continuous emissions monitoring system (CEMS) for one flare at plant 1 and one flare at plant 2 at the Suncor Energy (USA) Inc. (Suncor) Commerce City Refinery in Commerce City, Colorado subject to NSPS subpart Ja?

A: Yes. The EPA approves Suncor's AMP for flares at plants 1 and 2, pursuant to 40 CFR 60.13(i), to use the data obtained from the TS CEMS low range two-point daily calibration drift and two-point quarterly audits, as well as a one-point challenge in the high range. Because Suncor is requesting this AMP based on a significant safety hazard to refinery personnel and because this monitoring is being performed to detect the threshold for a root cause analysis, not to monitor for compliance with an emission limit, the EPA will allow for minimal use of high concentration calibration gases. This approach avoids routine use of higher level calibration gases in the field; higher level gases are only used for quarterly audits and annual testing and could be brought on-site by a testing contractor and then removed after the test/audit.

Abstract for [1600033]

Q: Does the EPA approve the Alternative Monitoring Plan (AMP) to use the data obtained from the total sulfur (TS) continuous emissions monitoring system (CEMS) for a flare at plant 3 of the Suncor Energy (USA) Inc. (Suncor) Commerce City Refinery in Commerce City, Colorado subject to NSPS subpart Ja?

A: Yes. The EPA approves Suncor's AMP for a flare at plant 3, pursuant to 40 CFR. 40 CFR 60.13(i), to use the data obtained from the TS CEMS low range two-point daily calibration drift and two-point quarterly audits, as well as a one-point challenge in the high range. Because Suncor is requesting this AMP based on a significant safety hazard to refinery personnel and because this monitoring is being performed to detect the threshold for a root cause analysis, not to monitor for compliance with an emission limit, the EPA will allow for minimal use of high concentration calibration gases. This approach avoids routine use of higher level calibration gases in the field; higher level gases are only used for quarterly audits and annual testing and could be brought on-site by a testing contractor and then removed after the test/audit.

Abstract for [1600034]

Q: Does the EPA approve an Alternative Monitoring Plan (AMP) under 40 CFR 60.13(i) for the monitoring of emissions using an emission factor to determine NOx emissions from two stationary gas combustion turbines located at the Power House (Plant) operated by the University of Colorado Boulder (UCB) in Boulder, Colorado, in lieu of determining emissions through Continuous Emissions Monitoring System (CEMS) installed on the bypass stack, to demonstrate compliance with the emission limit under NSPS subpart GG?

A: Yes. Based on the most recent stack testing for NOx emissions during startup of turbine 1 and turbine 2, the EPA will allow UCB use of the 0.32 lb/MMBtu emission factor rather than determining emissions through CEMS installed on the bypass stack. The use of this emission factor provides a conservative emissions estimate and is consistent with UCB permit issued by the Colorado Department of Health and Environment (CDPHE) Air Pollution Control Division (APCD). The EPA or CDPHE APCD may require UCB to conduct additional testing of emissions at the bypass stack to verify the NOx concentrations during turbine startup.

Abstract for [1600035]

Q: Does the EPA approve waiver of a performance testing requirement for six identical stationary engines subject to 40 CFR part 60 subpart JJJJ at the Bio Town Ag facility in Reynolds, Indiana (Bio Town)?

A: Yes. Based on the information Bio Town provided, the EPA approves the performance test waiver request for six identical stationary engines operated in the same manner, pursuant to 40 CFR 60.8(b)(4). Specifically, EPA approves conducting a performance test every 8,760 hours or 3 years, whichever comes first, for the three engines that were constructed in 2011, and a performance test for the three engines that were constructed in 2014, in a staggered schedule as provided in the determination letter. Bio Town must meet Section VII. 2 of the April 27, 2009, Clean Air Act National Stack Testing Guidance, which lists the conditions that must be met for approval of a performance test waiver for identical emissions units.

Abstract for [1600036]

Q: Does the EPA approve the use of a bag leak detection system (BLDS) as an alternative monitoring method in lieu of a continuous opacity monitoring system (COMS) for purposes of meeting the monitoring requirements under 40 CFR part 60 subpart UUU, Standards of Performance for Calciners and Dryers in Mineral Industries, at the Waupaca Foundry, Inc. plant (Waupaca) located in Tell City, Indiana?

A: Yes. The EPA conditionally approves the Waupaca alternative monitoring method to use BLDS in lieu of a COMS or conducting daily Method 9 readings for the mechanical and thermal sand reclamation unit (P27) being installed at Waupaca's Plant 5. Waupaca will need to develop and prepare a site-specific monitoring plan for the BLDS installed under this alternative monitoring method and meet the conditions specified in the EPA response letter. In addition, Waupaca will need to revise its current major source construction permit for the sand reclamation project, as well as its Title V permit, to incorporate this alternative monitoring method. The approval of the proposed alternative monitoring method does not alter Waupaca's legal obligation to comply with all other applicable requirements associated with Subparts A and UUU, including meeting the opacity limit.

Abstract for [1600037]

Q1: Does the EPA determine the start-up date of Northern Industrial Sand's (NIS) sand dryer located in Auburn, Wisconsin and subject to 40 CFR part 60 subpart UUU is the date the construction permit was issued (June 18, 2015), or the date the sand dryer first processed sand (July 17, 2015)?

A1: The EPA determines that the initial start-up of NIS's sand dryer in question is July 17, 2015. “Start-up” is defined at 40 CFR 60. 2 as the setting in operation of an “affected facility” for any purpose. Based on the information provided in your letter, the sand dryer at NIS first processed sand on July 17, 2015.

Q2: For purposes of initial performance testing, does the EPA determine that the “180 days after start-up” requirement is based on consecutive days (including non-operational days) or operating days?

A2: The EPA determines that the 180 days after start-up requirement is based on calendar days, not operating days. The General Provisions, at 40 CFR 60. 19(a), state “For the purposes of this part, time periods specified in days shall be measured in calendar days, even if the word `calendar' is absent, unless otherwise specified in an applicable requirement.” Neither the General Provisions, at 40 CFR60. 8, nor the requirements of performance testing under subpart UUU, at 40 CFR 60.732 and 60.736, define the time periods for performance testing as anything other than “days”.

Q3: Does the EPA recommend any other options for NIS to consider for initial performance testing under subpart UUU before the 180-day deadline expires?

A3: Yes. The EPA suggests two testing options. Option 1: NIS may conduct initial performance testing of the sand dryer at its desired maximum throughput and store the processed sand until needed. Based on the information provided, NIS has more than adequate storage capacity for the processed sand to test under this option. Option 2: NIS may conduct performance testing of the sand dryer at less than its desired maximum throughput. However, if this option is selected, NIS will need to take operational restrictions to the reduced throughput at which it tested to show compliance with subpart UUU. The operational restrictions will need to be incorporated into a federally enforceable document (typically a federally enforceable construction or operating permit). If, at a later date, NIS is able to operate at an increased throughput and desires to operate at that increased throughput, it will need to revise its underlying federally enforceable document to accommodate the increased throughput. NIS will also be required to conduct another performance test at that increased rate and demonstrate compliance with applicable limits.

Q4: What does the EPA determine are the monitoring requirements following initial performance testing for the sand dryer?

A4: Based on the information NIS provided, the EPA determines that the sand dryer is an industrial sand fluid bed dryer. The monitoring requirements are therefore either: (a) Installation and operation of a continuous opacity monitoring system (COMS), or (b) daily visible emission readings using U. S. EPA Reference Method 9 (for no less than 18 minutes each day). The monitoring requirements of subpart UUU are found at 40 CFR 60.734(a-d).

Abstract for [1600038]

Q1: Does EPA approve three alternative calibration methods for the total reduced sulfur (TRS) analyzers associated with three flares that are affected facilities under 40 CFR part 60 subpart Ja at the Lima Refining Company (Lima Refining) refinery in Lima, Ohio?

A1: Based on the information provided by Lima Refining, EPA approves two of the three alternative calibration methods requested for the TRS monitors to address safety concerns involving storage, handling, and life expectancy (short expiration dates) of high hydrogen sulfide (H2S) concentration gas cylinders on site. The two conditional approved calibration methods are: (1) The use of low H2S concentration cylinders to calibrate TRS monitors provided that laboratory analyses demonstrate the linearity of the instruments for the target compound used across the entire sulfur concentration range expected; and (2) the use of a sample dilution system in conjunction with the TRS monitoring systems being installed provided that the dilution system can be challenged at the ratio Lima Refining intends to use, and the capability of the analyzer to detect the lowest expected concentrations of the target compound(s) under typical operating conditions when the gas is diluted at the dilution ratio selected. EPA is disapproving the use of a surrogate gas to calibrate the TRS monitoring systems. This disapproval is based on the fact that the monitoring requirements of subpart Ja are TRS specific. Approvable calibration methodologies should be based on pollutant specific monitoring, when such options are available, rather than a surrogate gas. Since there are feasible pollutant specific options, EPA disapproves the use of a surrogate gas to calibrate the TRS monitors.

Q2: Does EPA approve single point calibrations for each of the TRS analyzers associated with three flares that are affected facilities under subpart Ja?

A2: Yes. EPA approves Lima Refining's request to use single point calibrations for the daily calibration requirements (zero and one other target compound(s) concentration). However, Lima Refining must conduct multi-point calibrations on at least a quarterly basis. Other conditions and requirements of this approval are included in the EPA response letter.

Q3: Does EPA approve a reduced span to that required by subpart Ja for the TRS analyzer associated with the aromatics flare that is an affected facility under subpart Ja?

A3: Yes. EPA conditionally approves Lima Refining's request to reduce the instrument span from 5,000 ppm to 1,000 ppm for the aromatics flare (LIU flare) TRS monitoring system. This approval is based on the low expected TRS concentration from the aromatics flare. However, if readings associated with the aromatics flare exceed 1,000 ppm, then Lima Refining will need to re-span the TRS monitor to a higher value which includes the higher concentration measured.

Abstract for [1600039]

Q: Does EPA approve the use of daily visible emission observations and baghouse pressure drop readings associated with the thermal sand reclamation unit in lieu of a continuous opacity monitoring system (COMS) to meet the monitoring requirements of 40 CFR subpart UUU (Standards of Performance for Calciners and Dryers in Mineral Industries) at the Urschel Laboratories, Inc. (Urschel) in Valparaiso, IN?

A: Yes. EPA conditionally approves the alternative monitoring method to meet the monitoring requirements of subpart UUU at 40 CFR 60.734. Urschel will need to evaluate and establish an appropriate range for the pressure drop across the baghouse based on a performance test at the thermal sand reclamation unit to ensure compliance with subpart UUU. The alternative monitoring program and associated recordkeeping and reporting approved through this letter must be incorporated into its federal enforceable state operating permit. Additional conditions and requirements of this approval are included in the EPA response letter.

Abstract for [1600040]

Q: Does EPA determine that the Urschel Laboratories, Inc. (Urschel) thermal sand reclamation unit located in Valparaiso, Indiana is exempt from the opacity monitoring requirements of 40 CFR part 60 subpart UUU (Standards of Performance for Calciners and Dryers in Mineral Industries) since its particulate emissions are well below 11 tons per year?

A: No. EPA determines that Urschel's thermal sand reclamation unit is an affected facility subject to subpart UUU and is therefore subject to the monitoring requirements at 40 CFR 60.734. Since the thermal sand reclamation unit is not one of the listed facilities under 40 CFR 60.734(b) or (c) and does not use a wet control device (40 CFR 60.734(d)), Urschel must install and operate a continuous opacity monitoring system (COMS). However, the General Provisions at 40 CFR 60.13(i) provides an owner or operator of an affected facility the ability to request, among other things, alternative monitoring to that required by an applicable subpart.

Abstract for [1600041]

Q: Does the EPA approve using an alternative test method ASTM D-6348-12 in lieu of ASTM D-6348-03 for measuring pollutants in the engine exhaust per NSPS subpart JJJJ at Samson Resources Company's facilities on the Southern Ute Indian Reservation in La Plata County, Colorado?

A: Yes. The EPA approves the use of the updated ASTM method, D-6348-12 in lieu of D-6348-03 as prescribed in Table 2 to NSPS JJJJ for performance testing of engines at the requested facilities, pursuant to 40 CFR 60.8(b)(2).

Abstract for [A160001]

Q1: Does the EPA approve a waiver from asbestos testing requirements for bare concrete deck bridges under 40 CFR part 61, subpart M (Asbestos NESHAP), for the Kansas Department of Transportation?

A1: No. Under the Asbestos NESHAP, there is no regulatory provision that allows the EPA to issue a waiver.

Q2: Does the EPA determine that bare concrete deck bridges are subject to the Asbestos NESHAP regulation?

A2: Yes. The EPA determines that concrete is considered a building material and needs to be evaluated for asbestos-content. At a minimum, it must be thoroughly inspected.

Abstract for [A160002]

Q1: Does the EPA determine that airport taxiways are subject to 40 CFR part 61, subpart M (Asbestos NESHAP)?

A1: Yes. The EPA indicated to the Missouri Department of Natural Resources (MO DNR) that airport taxiways are a “facility component” as defined in 40 CFR 61.141 and therefore subject to the regulation. At a minimum, the taxiway is subject to the thorough inspection requirement of the regulation. Further, MO DNR asks that EPA reconsider a previous applicability determination which stated airport runways were not subject to the Asbestos NESHAP. This applicability determination supersedes the June 20, 1997 applicability determination with ADI Control No. A970006.

Q2: Does the EPA determine that repair operations on a taxiway are considered a renovation or demolition operation under the Asbestos NESHAP regulation?

A2: Yes. The EPA determines if work is to be done on an airport taxiway, it is considered a renovation operation as there is no load-supporting structural member being wrecked or taken out as defined under the demolition definition.

Abstract for [M160005]

Q: Does EPA determine that McConway and Torley's Lawrenceville Foundry in Pittsburgh, Pennsylvania is subject to 40 CFR part 63 subpart XXXXXX (subpart 6X), NESHAP for Nine Metal Fabrication and Finishing Source Categories?

A: No. EPA has determined that subpart 6X does not apply to the Lawrenceville Foundry based on not meeting rule applicability requirements due to current operations, an evaluation of the SIC/NAICS codes associated with the facility, and the corresponding activities in which the facility is primarily engaged in that involves manufacturing of railroad car couplings.

Abstract for [M160007]

Q1: Does EPA determine that the raw material used by Mica Company of Canada Incorporated (Mica Co.) at their Newport News, Virginia facility meets the definition of a “web” and that both manufacturing lines are subject to 40 CFR part 63 subpart JJJJ?

A1: Based on the description provided by Mica Co., EPA determines that the raw material used by Mica Co. processing line 2 meets the definition of a “web” at 40 CFR 63.3300 since the mica paper is fed from a roll to the web coating line. Therefore, this processing line is subject to MACT subpart JJJJ. Processing line 1 does not meet the definition of web and is therefore not subject to MACT subpart JJJJ.

Q2: Does EPA determine that the end products manufactured by Mica Co. meet the definition of a “refractory product” and that both processing lines are therefore subject to 40 CFR part 63 subpart SSSSS?

A2: No. Based on the description provided by Mica Co., EPA determines that the mica sheet insulating products manufactured by Mica Co. do not meet the definition of a “refractory product” at 40 CFR 63.9824; therefore, the manufacturing lines are not subject to MACT subpart SSSSS.

Abstract for [M160009]

Q: Does EPA determine that the Teva Pharmaceuticals USA, Inc. Women's Health pharmaceutical manufacturing facility in Cincinnati, Ohio (Teva) is subject to the NESHAP subpart VVVVVV Title V Permit requirement if the facility took operational limits on organic compounds to become an area source before the effective date of the rule and now operate control devices, but would still be an area source without the controls?

A: No. EPA determines that the Teva pharmaceutical manufacturing operations at the Cincinnati facility are not currently subject to the Title V requirement in NESHAP subpart VVVVVV. Since the facility took operational limits to obtain area source status prior to the effective date of the rule, the Title V NESHAP subpart VVVVVV requirement does not apply, even if it now operates controls. The facility does not rely on a control device to maintain HAP emissions below major source thresholds as was demonstrated with the potential to emit analysis.

Abstract for [M160017]

Q: Does EPA determine that the Owens Corning Insulating Systems, LLC (OC) a wool fiberglass products manufacturing plant located in Delmar, NY (Delmar), is subject to 40 CFR part 63 subpart JJJJ, NESHAP for Paper and Other Web Coating Manufacturing?

A: Yes. Based on the information provided by OC, EPA determines that the Delmar plant still operates web coating lines after switching from a phenol-formaldehyde binder to a starch binder and thus remains subject to 40 CFR part 63 subpart JJJJ, and that the subsequent non applicability determination for 40 CFR part 63 subpart NNN, the NESHAP for Wool Fiberglass Manufacturing due to the binder switch is irrelevant to the applicability status of 40 CFR part 63 subpart JJJJ. This determination is consistent with the “Once-In-Always-In” policy. The Delmar plant has been required to comply with subpart JJJJ provisions (including emissions standards) since December 5, 2005, the first substantive compliance date of rule, based on 40 CFR 63.320(a) of the rule. The fact that OC chooses to comply with the subpart JJJJ emission standards at the Delmar plant using a method it was already using (i.e., the “[u]se of `as-purchased' compliant coating materials”) prior to the first substantive compliance date is irrelevant to the applicability analysis.

Abstract for [M160019]

Q: Does EPA approve an Alternative Monitoring Plan (AMP) for a Wet Gas Scrubber (WGS) on a Fluidized Catalytic Cracking Unit (FCCU) subject to NSPS part 60 subpart J, and also NESHAP subpart UUU, for parametric monitoring of opacity at the WGS in lieu of a Continuous Opacity Monitoring System, due to moisture interference on opacity readings in the stack at the Valero Refining Company (Valero) facility in Ardmore, Oklahoma (Valero)?

A: Yes. Based upon the design of the WGS unit and the process specific information and performance test results provided by Valero, EPA approves the AMP request and its operating parameter limits (OPLs) for demonstrating compliance under NESHAP subpart UUU, which included minimum Liquid-to-Gas Ratio, minimum water pressure to the quench/spray tower nozzles, and minimum pressure drop across the Agglo-filtering module. Valero shall incorporate the terms of this AMP approval into the facility's New Source Review (NSR) and Title V permits for federal enforceability. If refinery operations change, Valero shall conduct another performance test to establish new limits for the OPLs listed in the EPA response letter.

Abstract for [M160020]

Q: Does EPA determine that the Ervin Amasteel facility in Adrian, Michigan should be classified as a steel foundry subject to requirements of the NESHAP for Iron and Steel Foundries Area Source, at 40 CFR part 63 subpart ZZZZZ, and not the requirements under the NESHAP for Area Sources for Electric Arc Furnace Steelmaking Facilities, at 40 CFR part 63 subpart YYYYY, and the Standards of Performance for Steel Plants: Electric Arc Furnaces and Argon-Oxygen Decarburization Vessels Constructed After August 17, 1983, at 40 CFR part 60 Subpart AAa (NSPS AAa)?

A: No. EPA determines that the Ervin Amasteel facility is not subject to the requirements of NESHAP subpart ZZZZZ because the facility is not an iron and steel foundry as defined in 40 CFR 63.10906 of the rule. Therefore, the Ervin Amasteel facility remains subject to the applicable provisions of NESHAP subpart YYYYY and NSPS subpart AAa.

Abstract for [M160021]

Q: Does EPA approve an alternative monitoring method for the bypass valve line associated with the thermal oxidizer in lieu of a continuous flow monitor or securing the bypass valve with a car seal or lock-and-key type system to meet the monitoring requirements of 40 CFR part 63 subpart JJJ at the INEOS Barex USA LLC (INEOS) plant in Lima, Ohio?

A: Yes. Based on the information provided by INEOS, including concerns about installation of a flow monitor on this particular bypass stream due to location and corrosion possibilities, EPA conditionally approves the alternative monitoring method that requires continuous monitoring of the bypass valve position associated with the thermal oxidizer in accordance with 40 CFR 63.8(f)(2) and (4). The recordkeeping and reporting conditions for approval are specified in the EPA response letter.

Abstract for [Z160005]

Q1: Does EPA determine that stationary engines being tested in a test cell at Maine Maritime Academy (MMA) in Castine, Maine would be subject to the NESHAP for Reciprocating Internal Combustion Engines (RICE), 40 CFR part 63 subpart ZZZZ?

A1: No. EPA determines that because the engines in question will be tested at a stationary RICE test cell as defined in Subpart PPPPP, they are not subject to subpart ZZZZ consistent with 40 CFR 63.6675 of subpart ZZZZ.

Q2: Does EPA determine that the proposed engine test cell at MMA, which is an area source of hazardous air pollutants, would be subject to the NESHAP for Engine Test Cell/Stands, 40 CFR part 63 subpart PPPPP?

A2: No. EPA determines that as long as MMA remains an area source of hazardous air pollutants (HAPs), it is not subject to subpart PPPPP, which applies to owners or operators of engine test cells/stands at a major source of HAPs.

Dated: July 20, 2017.
David A. Hindin,
Director, Office of Compliance, Office of Enforcement and Compliance Assurance.

[FR Doc. 2017-16499 Filed 8-3-17; 8:45 am]

BILLING CODE 6560-50-P